DEPARTMENT OF AGRICULTURE

Agricultural Marketing Service

[Doc. No. AMS-TM-24-0060]

USDA Farmers Market Application; Notice of Request for an Extension and Revision of a Currently Approved Information Collection

AGENCY: Agricultural Marketing Service, USDA.

ACTION: Notice; request for comment.

SUMMARY: In accordance with the Paperwork Reduction Act of 1995, this notice announces the Agricultural Marketing Service's (AMS) intention to request approval, from the Office of Management and Budget, for an extension and revision of the currently approved information collection for USDA Farmers Market Application.

DATES: Comments on this notice must be received by December 2, 2024 to be assured of consideration.

ADDRESSES: Interested persons are invited to submit comments concerning this notice by using the electronic process available at https://www.regulations.gov or mailed to ToiAyna Thompson, Market Manager, Transportation and Marketing Programs, Agricultural Marketing Service, U.S. Department of Agriculture, 1400 Independence Avenue SW, Room 1097 South Building, Washington, DC 20250. Comments should reference the document number and the date and the page number of this issue of the Federal Register. All comments will be available for public inspection in person at USDA-AMS, Transportation and Marketing Programs, Marketing Services Division, Room 4523-South Building, 1400 Independence Ave. SW, Washington, DC, from 9 a.m. to 12 noon and from 1 p.m. to 4 p.m., Monday through Friday, (except official Federal holidays) or can be viewed at https://www.regulations.gov. Persons wanting to visit the USDA South Building to view comments received are requested to make an appointment in advance by calling (202) 690-1300. Comments submitted in response to this notice will be posted without change, including any personal information provided, at https://www.regulations.gov and will be included in the record and made available to the public. Please be advised that the identity of the individuals or entities submitting the comments will be made public. Comments may be submitted anonymously.

FOR FURTHER INFORMATION CONTACT: ToiAyna Thompson, Market Manager, Transportation and Marketing Programs, Agricultural Marketing Service, U.S. Department of Agriculture, 1400 Independence Avenue SW, Room 1097 South Building, Washington, DC 20250. Telephone 202-7450-7691.

SUPPLEMENTARY INFORMATION:

Title: USDA Farmers Market Application.

OMB Number: 0581-0229.

Expiration Date of Approval: September 30, 2024.

Type of Request: Extension and revision of a currently approved information collection.

Abstract: The Agricultural Marketing Act of 1946 (7 U.S.C. 1621-1627) directs and authorizes the Secretary of Agriculture to conduct, assist, and foster research, investigation, and experimentation to determine the best methods of processing, preparation for market packaging, handling, transporting, distributing, and marketing agricultural products, 7 U.S.C. 1622(a). Moreover, 7 U.S.C.1622(f) directs and authorizes the Secretary to conduct and cooperate in consumer education for more effective utilization and greater consumption of agricultural products. In addition, 7 U.S.C. 1622(n) authorizes the Secretary to conduct services and to perform activities that will facilitate the marketing and utilization of agricultural products through commercial channels.

On December 23, 2005, the AMS published a final rule in the Federal Register (70 FR 76129) to implement established regulations and procedures under 7 CFR part 170 for AMS to operate the USDA Farmers Market, specify vendor criteria and selection procedures, and define guidelines to be used for governing the USDA Farmers Market. In conjunction, the USDA Farmers Market Application was developed to receive information from farmers and small business owners who are interested in participating in the market. Prospective vendors fill out the Application online once per year. Copies of this one-time yearly application form to participate in the U.S. Department of Agriculture (USDA) Farmers Market may be obtained by calling the AMS Transportation and Marketing Program contact listed in FOR FURTHER INFORMATION section or visiting https://www.usda.gov/farmersmarket.

The information collected on the Application allows AMS the means to review and select participants for the annual market season. The type of information requested on the Application includes: (1) Certification the applicant is the owner or representative of the farm or business; (2) applicant contact information including name(s), address, phone number, and email address; (3) farm or business location; (4) types of products grown or to be sold; (5) business practices and direct sourcing relationships with local farmers, ranchers and growers; (6) weekly sales data; (7) insurance coverage; and (8) all applicable food safety documents. Vendors selected to the market provide a signed copy of the Participant Agreement, which states that the vendor has read, understands and agrees to adhere to all applicable rules and guidelines as outlined in the USDA Farmers Market Rules, Procedures, and Operating Guidelines. Sales Data is collected from vendors weekly. This information is useful in letting AMS know how well the market and vendors are doing overall.

We collect sales data at the beginning of every market day from the previous week. This is collected on an Excel spreadsheet that is stored by market manager. It then gets documented in a shared office file, that tracks the sales all season. Collecting sales gives us feedback as to how each vendor did each week and the success of the market each year. We use these numbers to determine the success of the market, the marketing strategies of each vendor, and uniqueness of each product. It is also noted with a quick snapshot of the weather for each corresponding day, to determine if the sales were affected by extreme rain, heat, or any other natural disaster that would deter marketgoers from visiting and purchasing from the vendors.

The USDA Farmers Market Customer Satisfaction Questionnaire and the VegUcation Questionnaire will be combined into one survey and submitted under 0581-0269 Generic Clearance for the Collection of Qualitative Feedback on Agency Service Delivery. The purpose of this survey is to learn who our customers are and what their preferences are in order to improve the USDA Farmers Market. The VegUcation classes take place weekly at the USDA Farmers Market and are free for anyone to attend and are taught by USDA subject matter experts. The purpose is to learn how familiar attendees are with the featured fruit or vegetable, if they found the class valuable, and if their attendance affected their market purchases. The Vendor Satisfaction Survey is used to determine the success of the market from the participating vendors for each season.

Estimate of Burden: The public reporting burden for this collection is estimated to be 7 minutes per response.

Respondents: Farmers and/or small business owners.

Estimated Number of Respondents: 68.

Estimated Total Annual Responses: 1,764.

Estimated Number of Responses per Respondent: 25.98.

Estimated Total Annual Burden on Respondents: 201.12 hours.

Comments: Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

The information collected is used only by authorized employees of the USDA, AMS. All responses to this notice will be summarized and included in the request for OMB approval.

All comments will become a matter of public record.

Melissa Bailey,
Associate Administrator, Agricultural Marketing Service.

[FR Doc. 2024-22452 Filed 9-30-24; 8:45 am]

BILLING CODE P